DEPARTMENT OF LABOR

Office of the Secretary; Submission for OMB Review; Comment Request

June 8, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collections.

Agency: Employment and Training Administration (ETA).

Title: Statement of Expenditures and Adjustments of Federal Funds for Unemployment Compensation for Federal Employees and Ex-servicemembers.

OMB Number: 1205-0162.

Form Number: ETA 191.

Affected Public: State, Local, or Tribal government.

Frequency: Quarterly.

Number of Respondents: 53.

Total Annual Responses: 212.

Estimated Time Per Response: 6 Hours.

Total Burden: 1,272 Hours.

Total Annualized capital/startup costs: $0.

Total annual costs (operating/maintaining systems or purchasing services): $0.

Description: Federal and military agencies must reimburse the Federal Employees Compensation Account for the amount expended for benefits to former Federal (civilian) employees (UCFE) and ex-servicemembers (UCX). The report informs ETA of the amount to bill each such agency.

Ira L. Mills,
Departmental Clearance Officer.

[FR Doc. 00-15147 Filed 6-14-00; 8:45 am]

BILLING CODE 4510-30-M